DEPARTMENT OF TRANSPORTATION OFFICE OF THE SECRETARY

Application of Harris Aircraft Services, Inc. for Certificate Authority

AGENCY: Department of Transportation.

ACTION: Notice extending time to file objections and answers—Docket DOT-OST-2014-0145.

SUMMARY: The Department of Transportation is extending the period for the filing of objections to Order 2015-8-10 to allow all interested persons to show cause why it should not issue an order finding Harris Aircraft Services, Inc., fit, willing, and able, and awarding it a certificate of public convenience and necessity to conduct interstate scheduled air transportation of persons, property and mail.

DATES: Persons wishing to file objections should do so no later than September 8, 2015.

ADDRESSES: Objections and answers to objections should be filed in Docket DOT-OST-2014-0145 and addressed to Docket Operations, (M-30, Room W12-140), U.S. Department of Transportation, 1200 New Jersey Avenue SE., Washington, DC 20590, and should be served upon the parties listed in Attachment A to the order.

FOR FURTHER INFORMATION CONTACT: Barbara Snoden, Air Carrier Fitness Division (X-56, Room W86-471), U.S. Department of Transportation, 1200 New Jersey Avenue SE., Washington, DC 20590, (202) 366-4834.

Dated: August 27, 2015.
Todd M. Homan,
Director, Office of Aviation Analysis.

[FR Doc. 2015-21722 Filed 9-1-15; 8:45 am]

BILLING CODE 4910-9X-P